DEPARTMENT OF ENERGY

Federal Energy Regulatory Commission

Combined Notice of Filings #1

June 27, 2005.

Take notice that the Commission received the following electric rate filings:

Docket Numbers: ER02-2559-004; ER01-1071-005; ER02-669-005; ER02-2018-005; ER01-2074-005; ER00-2391-00; ER98-2494-009; ER97-3359-008; ER00-3068-005; ER03-34-004; ER98-3511-009; ER02-1903-004; ER99-2917-006; ER03-179-005; ER98-3566-012; ER02-1838-005; ER01-838-005; ER98-3563-009; ER98-3564-009; ER02-2120-003; ER01-1972-005; ER98-2076-008; ER03-155-004; ER03-623-005; ER98-4222-004; ER01-1710-006; ER02-2166-004; ER01-2139-007.

Applicants: Backbone Mountain Windpower LLC; Badger Windpower, LLC; Bayswater Peaking Facility, LLC; Blythe Energy, LLC; Calhoun Power Company I, LLC; Doswell Limited Partnership; ESI Vansycle Partners, L.P.; Florida Power & Light Company; FPL Energy Cape, LLC; FPL Energy Hancock County Wind, LLC; FPL Energy Maine Hydro LLC; FPL Energy Marcus Hook, L.P.; FPL Energy MH 50, LP; FPL Energy New Mexico Wind, LLC; FPL Energy Power Marketing, Inc.; FPL Energy Seabrook, LLC; FPL Energy Vansycle, LLC; FPL Energy Wyman, LLC; FPL Energy Wyman IV, LLC; FPLE Rhode Island State Energy, L.P.; Gray County Wind Energy, LLC; Hawkeye Power Partners, LLC; High Winds, LLC; Jamaica Bay Peaking Facility, LLC; Lake Benton Power Partners II, LLC; Mill Run Windpower, LLC; Pennsylvania Windfarms, Inc.; Somerset Windpower, LLC.

Description: Backbone Mountain Windpower LLC and the above listed companies submit revised tariff sheets in compliance with the Commission's order issued 5/26/05, 111 FERC ¶ 61,242 (2005).

Filed Date: 06/17/2005.

Accession Number: 20050623-0110.

Comment Date: 5 p.m. Eastern Time on Friday, July 8, 2005.

Docket Numbers: ER05-1136-000.

Applicants: Pacific Gas & Electric Company.

Description: Pacific Gas and Electric Company submits a partially executed Generator Special Facilities Agreement & an unexecuted Generator Interconnection Agreement with FPL Energy, LLC.

Filed Date: 06/22/2005.

Accession Number: 20050624-0016.

Comment Date: 5 p.m. Eastern Time on Wednesday, July 13, 2005.

Docket Numbers: ER05-1137-000.

Applicants: DPL Energy Resources, Inc.

Description: DPL Energy Resources, Inc submits its notice of cancellation of its FERC Electric Rate Schedule 1 and requests waiver of 60-day prior notice requirement to be effective 6/24/05.

Filed Date: 06/22/2005.

Accession Number: 20050624-0012.

Comment Date: 5 p.m. Eastern Time on Wednesday, July 13, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlineSupport@ferc.gov or call (866) 208-3676 (toll free). For TTY, call (202) 502-8659.

Linda Mitry,
Deputy Secretary.

[FR Doc. E5-3471 Filed 7-1-05; 8:45 am]

BILLING CODE 6717-01-P